DEPARTMENT OF TRANSPORTATION

Maritime Administration

[Docket Number USCG-2013-0363]

Deepwater Port License Application: Liberty Natural Gas LLC, Port Ambrose Deepwater Port

AGENCY: Maritime Administration, Department of Transportation.

ACTION: Notice of availability; notice of public meeting; request for comments.

SUMMARY: The Maritime Administration (MARAD) and the U.S. Coast Guard (USCG) announce the availability of the Draft Environmental Impact Statement (DEIS) for the Liberty Natural Gas LLC, Port Ambrose Liquefied Natural Gas Deepwater Port License Application for the importation of natural gas.

Please note that this application is only for the construction and operation of a deepwater port that could only be used as a natural gas import facility. The considerable technical, operational, and environmental differences between import and export operations for natural gas deepwater ports is such that any licensed deepwater port facility that proposed to convert from import to export operations would be required to submit a new license application (including application fee) and conform to all licensing requirements and regulations in effect at such time of application. In addition to payment of the application fee, licensing requirements include, but are not limited to, completion of an extensive environmental impact assessment and financial resources review which would include public participation.

The Port Ambrose application describes an offshore natural gas deepwater port facility that would be located 16.1 nautical miles southeast of Jones Beach, New York, 24.9 nautical miles east of Long Branch, New Jersey, and 27.1 nautical miles from the entrance to New York Harbor in a water depth of approximately 103 feet. The DEIS complies with the Deepwater Port Act of 1974, as amended (33 U.S.C. 1501 et seq.) (DWPA) and the National Environmental Policy Act (NEPA) (Section 102[2][c]), as implemented by Council on Environmental Quality regulations (40 CFR 1500 to 1508).

Publication of this notice begins a 60 day comment period, requests public participation in the process, provides information on how to participate in the process, and announces informational open houses and public meetings in New York and New Jersey. Pursuant to the criteria provided in the DWPA, both New Jersey and New York are the Adjacent Coastal States for this application.

DATES: There will be two public meetings held in connection with the application DEIS. The first public meeting will be held in Jamaica, New York on Wednesday, January 7, 2015 from 6 p.m. to 8 p.m. The second public meeting will be held in Eatontown, New Jersey on Thursday, January 8, 2015 from 6 p.m. to 8 p.m. Both public meetings will be preceded by an open house from 4:30 p.m. to 5:30 p.m. The public meeting may end later than the stated time, depending on the number of persons wishing to speak. Additionally, materials submitted in response to the request for comments must reach the Docket Management Facility as detailed below, by close of business Tuesday, February 10, 2015 or 60 days after this NOA is published in the Federal Register whichever is later.

ADDRESSES: The open house and public meeting in Jamaica, New York will be held at the Hilton New York JFK Airport, 144-02 135th Avenue, Jamaica, New York 11436; phone 718-659-0200 or www3.hilton.com/en/hotels/new-york/hilton-new-york-jfk-airport-NYCJFHF/index.html. Parking is available at the hotel. Attendees may submit their parking stubs at the meeting registration desk for validation. The open house and public meeting in Eatontown, New Jersey will be held at the Sheraton Eatontown Hotel, 6 Industrial Way East, Eatontown, NJ 07724, phone 732-542-6500 or www.sheratoneatontown.com with free parking on site.

The license application, comments, supporting information, and the DEIS are available for viewing at the Federal Docket Management System (FDMS) Web site: http://www.regulations.gov under docket number USCG-2013-0363. The Final Environmental Impact Statement, when published, will be announced and available at this site as well.

Docket submissions for USCG-2013-0363 should be addressed to: Department of Transportation, Docket Management Facility, West Building, Ground Floor, Room W12-140, 1200 New Jersey Avenue SE., Washington, DC 20590-0001.

The Federal Docket Management Facility accepts hand-delivered submissions and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Mr. Roddy Bachman, U.S. Coast Guard, telephone: 202-372-1451, email: Roddy.C.Bachman@uscg.mil, or Ms. Yvette M. Fields, Maritime Administration, telephone: 202-366-0926, email: Yvette.Fields@dot.gov. For questions regarding the Docket, call Ms. Barbara Hairston, Program Manager, Docket Operations, telephone 202-366-9826.

SUPPLEMENTARY INFORMATION:

Public Meeting and Open House

You are invited to learn about the proposed Port Ambrose Deepwater Port at either of the above informational open houses, and to comment on the proposed action and the environmental impact analysis contained in the DEIS at either of the above public meetings or directly to the docket.

Speakers may register upon arrival and will be recognized in the following order: Elected officials, public agencies, individuals or groups in the order in which they registered. In order to accommodate all speakers, speaker time may be limited, meeting hours may be extended, or both. Speakers' transcribed remarks will be included in the public docket. Written material may also be submitted for inclusion in the public docket. Written material must include the author's name and address. We ask attendees to respect the meeting procedures in order to ensure a constructive information-gathering session. Please do not bring signs or banners inside the meeting venue. The presiding officer will use his/her discretion to conduct the hearing in an orderly manner.

Public meeting locations are wheelchair-accessible. However, attendees who require special assistance such as sign language interpretation or other reasonable accommodation, please notify the USCG (see FOR FURTHER INFORMATION CONTACT) at least 5 business days in advance. Include contact information as well as information about specific needs.

Request for Comments

We request public comments or other relevant information on the DEIS for the proposed deepwater port. These comments will assist us in the preparation of the Final Environmental Impact Statement (FEIS). The public meeting is not the only opportunity you have to comment. In addition to, or in place of, attending a meeting, you may submit comments to the Docket Management Facility during the public comment period (see DATES). We will consider all reasonable comments and material received during the comment period.

Submissions should include:

• Docket number USCG-2013-0363.

• Your name and address.

Submit comments or material using only one of the following methods:

• Electronic submission to the Federal Docket Management Facility, http://www.regulations.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the FDMS Web site (http://www.regulations.gov), and will include any personal information you provide. Therefore, submitting this information makes it public. You may wish to read the Privacy and Use Notice that is available on the FDMS Web site, and the Department of Transportation Privacy Act Notice that appeared in the Federal Register on April 11, 2000 (65 FR 19477), see PRIVACY ACT. You may view docket submissions at the Department of Transportation Docket Management Facility or electronically on the FDMS Web site (see ADDRESSES).

Background

Information about deepwater ports, the Deepwater Port Act, other applicable statutes, regulations governing deepwater port licensing, including the application review process, and the receipt of the current application for the proposed Port Ambrose liquefied natural gas deepwater port was published in the Federal Register on June 14, 2013, 78 FR 36014. The “Summary of the Application” from that publication is reprinted below for your convenience.

The Notice of Intent to Prepare an EIS for the proposed action was published in the Federal Register at 78 FR 37878, June 24, 2013. The DEIS, application materials and associated comments and supporting information are available on the docket.

Scoping meetings were conducted in Long Beach, New York and Edison, New Jersey on July 9 and 10, 2013. Transcripts were posted on the docket (document numbers 0976 and 0977) on August 28, 2013. An extended 60 day scoping comment period ended August 22, 2013.

The statutory timeline, as required by the DWPA, requires final public hearings be conducted no later than 240 days after notice of the application. This timeline was suspended by MARAD and USCG on October 21, 2013, day 129 of the 240 day timeline. This suspension was necessary to acquire and analyze additional information needed to develop an Environmental Impact Statement (EIS) that will satisfy public and agency requirements and to meet other responsibilities, including the independent risk assessment, within the statutory timeframe required by the DWPA. Effective this day, with the publishing of this notice, the suspension of the statutory timeline is removed. The period of suspension has not been counted in determining the date prescribed by the time limit set forth in the DWPA. Upon completion of the FEIS, and following completion of the final public hearings, the Governors of the adjacent coastal states of New York and New Jersey will have 45 days to approve the application; approve the application with conditions; or deny the proposed deepwater port. MARAD then has 90 days from the close of the hearings to issue a Record of Decision.

Though the scoping comment period ended on August 22, 2013, additional information has been added to the docket as it was identified, researched and analyzed.

Proposed Action and Alternatives

The proposed action requiring environmental review is the Federal licensing of the proposed deepwater port described in the “Summary of the Application” below. The alternatives to licensing the proposed port are: (1) Licensing with conditions (including conditions designed to mitigate environmental impact), and (2) denying the application, which for purposes of environmental review is the “no-action” alternative. These alternatives are more fully discussed in the DEIS. While USCG, in coordination with MARAD, is the lead Federal agency for the preparation of the EIS, MARAD is the Federal licensing agency. You can address any questions about the proposed action or the DEIS to USCG or MARAD project managers identified in FOR FURTHER INFORMATION CONTACT.

Summary of the Application

Liberty Natural Gas, LLC is proposing to construct, own, and operate a liquefied natural gas (LNG) deepwater port import facility, known as Port Ambrose, located in the New York Bight. The Port Ambrose facility will be located at a different proposed location and include a different design than the previous deepwater port license application submitted by Liberty Natural Gas, LLC in 2010. Port Ambrose would consist of two Submerged Turret Loading Buoys (STL Buoys) in Federal waters 16.1 nautical miles southeast of Jones Beach, New York, 24.9 nautical miles east of Long Branch, New Jersey, and 27.1 nautical miles from the entrance to New York Harbor, in a water depth of approximately 103 feet.

LNG would be delivered from purpose-built LNG regasification vessels (LNGRVs), vaporized on site and delivered through the STL Buoys, flexible riser/umbilical, subsea manifold and lateral pipelines to a buried 18.8 nautical mile subsea mainline connecting to the existing Transco Lower New York Bay Lateral in New York State waters 2.2 nautical miles south of Long Beach, New York and 13.1 nautical miles east of Sandy Hook, New Jersey. The buoys would be lowered to rest on a landing pad when not in use and would also include a suction anchor mooring array.

STL Buoy 1 is located at Latitude: 40°19′24.61″ N and Longitude: 73°25′45.33″ W. STL Buoy 2 is located at Latitude: 40°20′09.26″ N and Longitude 73°23′51.92″ W. The Port components would fall in the following U.S. Outer Continental Shelf (OCS) lease blocks:

Buoy 1 (6708, 6709, 6758); Buoy 2 (6709); Lateral 1 (6708); Lateral 2 (6708, 6709); “Y” Assembly (6708); Mainline Pipeline (6708, 6658, 6657, 6607, 6606, 6556, 6555, 6554, 6504 and 6503).

The 145,000 cubic meter LNGRVs would have onboard closed-loop vaporization and metering and odorant capability. Each vessel would have three vaporization units capable of maximum send-out of 750 million standard cubic feet per day (MMscfd) (maximum pipeline system flow rate is 660 MMscfd with two buoys) with annual average expected to be 400 MMscfd. The LNGRVs have been designed to utilize a ballast water cooling system that will entirely re-circulate onboard the vessel during Port operations, eliminating vessel discharges associated with regasification while at the Port. Deliveries through Port Ambrose would be focused during peak demand winter and summer months, and it is anticipated that approximately 45 deliveries will occur each year.

As proposed, the LNGRVs would access the port inbound from the Hudson Canyon to Ambrose Traffic Lane and depart via the Ambrose to Nantucket Traffic Lane. MARAD and USCG are aware that Port Ambrose falls within the proposed area of interest for the Long Island—New York City Offshore Wind Collaborative wind energy project. This project will be acknowledged and considered in the cumulative impacts analysis section of the DEIS based on currently available information. If approved, the majority of the port and pipeline construction and installation would occur in 2017, with commissioning estimated to be in December 2017.

In addition, pipelines and structures such as the STL buoy moorings may require permits under Section 404 of the Clean Water Act and Section 10 of the Rivers and Harbors Act which are administered by the U.S. Army Corps of Engineers (USACE). Port Ambrose will also require permits from the Environmental Protection Agency (EPA) pursuant to the provisions of the Clean Air Act, as amended, and the Clean Water Act, as amended.

The new pipeline is included in the NEPA review as part of the deepwater port application process. The EPA and the USACE among others, are cooperating agencies and will assist in the NEPA process as described in 40 CFR 1501.6; may participate in the public meetings; and will incorporate the EIS into their permitting processes. Comments sent to the EPA or USACE will also be incorporated into the DOT docket and EIS to ensure consistency with the NEPA Process.

There have been some proposed project changes since the original application was submitted, which are set forth in materials on the docket and in the DEIS. (1) The original Application proposed a plowed mainline pipeline burial depth of 3 feet. Now the pipeline is proposed to be plow-buried to 4 feet with the portion that is within the Ambrose Anchorage Area buried 7 feet using jetting. (2) The originally proposed impact driven mooring pile anchors are now proposed to be suction anchors. (3) The original port construction and commissioning was proposed to occur in 2015. That has been amended to occur in 2017 (assuming a license is issued).

Should a license be issued, the deepwater port would be designed, fabricated, constructed, commissioned, maintained, inspected, and operated in accordance with applicable codes and standards and with USCG oversight as regulated under Title 33, Code of Federal Regulations (CFR), subchapter NN-Deepwater Ports, parts 148, 149, and 150. This also includes applicable waterways management and regulated navigation areas, maritime safety and security requirements, risk assessment, and compliance with domestic and international laws and regulations for vessels that may call on the port.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

(Authority: 49 CFR 1.93)

* * * * *

Dated: December 10, 2014.
By Order of the Maritime Administrator.
Christine S. Gurland,
Acting Secretary, Maritime Administration.

[FR Doc. 2014-29369 Filed 12-15-14; 8:45 am]

BILLING CODE 4910-81-P